DEPARTMENT OF ENERGY

Notice of Availability of a Request for Information on the Defense Production Act

AGENCY: Office of Manufacturing and Energy Supply Chains, Office of Policy, Department of Energy.

ACTION: Notice of availability of request for information (RFI).

SUMMARY: The U.S. Department of Energy (DOE) announces the notice of availability (NOA) and invites public comment on its request for information on the Defense Production Act (DPA), which will inform how the DPA authority provided to DOE through Presidential Determinations could best be used as a tool to accelerate manufacturing and deployment of clean energy technologies to bolster national defense, tackle climate change and environmental justice, and improve employment opportunities and broader economic prosperity for Americans. This RFI invites public comment on general use of DPA authority as well as potential program activities and/or designs addressing four of the five technology areas announced by the President on June 6, 2022: transformers and critical electric grid components; solar photovoltaics; insulation materials; and electrolyzers, platinum group metals, and fuel cells for clean hydrogen. Consistent with the intent of Congress, DOE plans to use $250 million of funds appropriated by the Inflation Reduction Act (IRA) to support the fifth and final technology area for which the President issued a determination under the Defense Production Act on June 6, 2022, electric heat pumps. Thus, use of DPA Title III for heat pumps will be addressed in a separate, forthcoming DOE announcement for which public input will be sought.

DATES: Responses will be reviewed and considered on a rolling basis but are due no later than 5:00 p.m. (ET) on November 30, 2022.

ADDRESSES: Interested parties are to submit comments electronically to dpaenergy@hq.doe.gov and include “RFI: Defense Production Act” in the subject line. Email attachments can be provided as a Microsoft Word (.docx) file or an Adobe PDF (.pdf) file, prepared in accordance with the instructions in the RFI. Attachments with file sizes exceeding 25MB should be compressed (i.e., zipped) to ensure message delivery; however, no email shall exceed a total of 45MB, including all attachments. The complete RFI document is located at www.energy.gov/mesc/defense-production-act-request-information. Please refer to the Disclaimer and Important Note section at the end of the RFI on how to submit business sensitive and/or confidential information.

FOR FURTHER INFORMATION CONTACT: Questions may be addressed to Tsisilile Igogo at (240) 278-5471 or dpaenergy@hq.doe.gov.

SUPPLEMENTARY INFORMATION: Securing energy technology supply chains to ensure grid reliability and support the transition to clean energy is critical to current and future U.S. national security. The urgency of this need has been apparent in recent months. For instance, in the electricity sector, an unprecedented combination of global supply chain challenges, Russia's war in Ukraine, and climate-exacerbated heat waves, wildfires, and storms have threatened utilities' ability to deliver energy cleanly, reliably, and affordably, and to restore power quickly in the event of outages. In the past year, legislative and executive actions have focused on building and strengthening America's energy sector supply chains and manufacturing base. In February 2022, DOE laid out the federal government's first-ever comprehensive strategy for securing U.S. energy supply chains, with technology-specific reports focused on challenges in electric grid supply chains, solar PV, platinum group metals, and more.¹ In June 2022, President Biden issued Presidential Determinations to DOE to utilize the DPA authority to accelerate domestic manufacturing and deployment of five key energy technologies.²

¹ www.energy.gov/policy/securing-americas-clean-energy-supply-chain.

² www.energy.gov/articles/president-biden-invokes-defense-production-act-accelerate-domestic-manufacturing-clean.

Congress passed the Infrastructure Investment and Jobs Act, also known as the Bipartisan Infrastructure Law (BIL),³ which invests over $22 billion in several clean energy supply chains, including technologies such as batteries, carbon capture, clean hydrogen, nuclear energy as well as critical minerals used in multiple clean energy technologies.⁴ Most recently, Congress passed significant investments in clean energy supply chains through the Inflation Reduction Act (IRA) ⁵ and the CHIPS and Science Act (CHIPS Act).⁶

³ www.congress.gov/bill/117th-congress/house-bill/3684.

⁴ www.energy.gov/policy/articles/americas-strategy-secure-supply-chain-robust-clean-energy-transition.

⁵ www.congress.gov/bill/117th-congress/house-bill/5376/text.

⁶ www.commerce.senate.gov/services/files/CFC99CC6-CE84-4B1A-8BBF-8D2E84BD7965.

IRA energy investments total approximately $369 billion over the next 10 years,⁷ which will help drive deployment and manufacturing of clean energy technologies, while the CHIPS Act provides more than $52.7 billion over the next 10 years to restart and expand the development and manufacturing of the domestic semiconductors industry.⁸ Further, section 30001 of the IRA appropriates $500 million to DPA. Consistent with Congressional intent, the activities supported by these funds will focus on critical minerals processing and on electric heat pumps. As such, DOE plans to use $250 million of DPA funds appropriated by IRA for electric heat pumps, and public comments on the use of DPA for electric heat pumps will be solicited through a separate forthcoming announcement.

⁷ www.democrats.senate.gov/imo/media/doc/inflation_reduction_act_one_page_summary.pdf.

⁸ www.whitehouse.gov/briefing-room/statements-releases/2022/08/09/fact-sheet-chips-and-science-act-will-lower-costs-create-jobs-strengthen-supply-chains-and-counter-china/.

Through this RFI, DOE seeks comments to understand the needs, concerns, and challenges related to energy supply chains for transformers and critical electric grid components; solar photovoltaics; insulation materials; and electrolyzers, platinum group metals, and fuel cells for clean hydrogen. Responses will help inform how best the Department, with appropriate funding, can use the DPA tools to support the private sector, workers, and communities to secure and strengthen the U.S. industrial base needed to ensure current and future energy and national security. This RFI includes broad questions on the use of DPA authority and invites comments on four of the five technologies that received Presidential Determinations; information specifically related to electric heat pumps should be reserved for a separate, forthcoming comment opportunity focused on the use of IRA funds.

This RFI is available at: www.energy.gov/mesc/defense-production-act-request-information.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on September 29, 2022, by Kathleen Hogan, Principal Deputy Under Secretary for Infrastructure, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 5, 2022.
Treena V. Garrett,
Federal Register Liaison Officer, U.S. Department of Energy.

[FR Doc. 2022-22004 Filed 10-7-22; 8:45 am]

BILLING CODE 6450-01-P